DEPARTMENT OF THE INTERIOR

Minerals Management Service

Agency Information Collection Activities: Submitted for Office of Management and Budget (OMB) Review; Comment Request

AGENCY: Minerals Management Service (MMS), Interior.

ACTION: Notice of extension of a currently approved information collection (OMB control number 1010-0137).

SUMMARY: Under the Paperwork Reduction Act of 1995 (PRA), we are submitting to OMB for review and approval an information collection request (ICR) titled Historical Well Data Cleanup (HWDC) Project. We are also soliciting comments from the public on this ICR.

DATE: Submit written comments by July 17, 2000.

ADDRESSES: You may submit comments directly to the Office of Information and Regulatory Affairs, OMB, Attention: Desk Officer for the Department of the Interior (1010-0137), 725 17th Street, NW., Washington, DC 20503. Mail or hand carry a copy of your comments to the Department of the Interior; Minerals Management Service; Attention: Rules Processing Team; Mail Stop 4024; 381 Elden Street; Herndon, Virginia 20170-4817.

Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain a copy of the collection of information at no cost. For information on results of workshops held to discuss the Historical Well Data Cleanup Project, contact Warren Frederick, Gulf of Mexico Region, telephone (504) 736-2562.

SUPPLEMENTARY INFORMATION: Title: Historical Well Data Cleanup (HWDC) Project.

OMB Control Number: 1010-0137.

Abstract: The Outer Continental Shelf (OCS) Lands Act, 43 U.S.C. 1331 et seq., gives the Secretary of the Interior (Secretary) the responsibility to preserve, protect, and develop oil and gas resources in the OCS, consistent with the need to make such resources available to meet the Nation's energy needs as rapidly as possible; balance orderly energy resource development with protection of the human, marine, and coastal environments; ensure the public a fair and equitable return on the resources of the OCS; preserve and maintain free enterprise competition; and ensure that the extent of oil and natural gas resources of the OCS is assessed at the earliest practicable time. Section 1332(6) of the OCS Lands Act states that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.”

On February 4, 2000, the OMB approved our request under emergency processing procedures to issue Addendum 2 to NTL No. 98-29 to begin this project. Emergency processing permits the collection of information for 180 days. As the project is expected to last for several years, this Notice informs you that we have requested approval for a 3-year extension of this information collection.

The information collected is missing data for wellbores that MMS has not assigned API numbers and other well data discovered as missing while completing the well database cleanup project. We are not able to accurately manage and utilize data from drilling operations without the information for the missing wells. We will use the information to identify other well data (e.g., logs, surveys, tests) missing from our records, geologically map existing MMS data to the correct wellbore/location, and correctly exchange information with the operators and industry. Our geoscientists can use the information to evaluate resources for lease sales for fair market value. With respect to safety concerns, we believe that there may be anywhere from 3,000 to 5,000 unidentified completed and/or abandoned wellbores (bypasses and sidetracks), some of which may contain stuck drill pipe or other materials. In approving permits and other operations in an area, it is important for us and the operators/lessees to know what may be adjacent to or near the vicinity of the activity we are approving to minimize the risk of blowouts, loss of well control, and endangerment to life, health, and the environment. This is particularly important as, over the years, the number of wells drilled constantly increases, thereby increasing the risk to adjacent activities if they are not aware of what might be in the area.

As announced in a “Special Information” release on February 2, 2000, we held two half-day workshops to share HWDC contract goals with the Gulf of Mexico OCS oil and gas industry and their services company vendors and contractors. The workshops were held in Houston and New Orleans on February 17 and 23, 2000. For further information on the results of these workshops, you may contact Warren Frederick at (504) 736-2562.

We will protect information respondents submit that is considered proprietary under the Freedom of Information Act (5 U.S.C. 552) and its implementing regulations (43 CFR part 2) and 30 CFR 250.196, “Data and information to be made available to the public.” No items of a sensitive nature are collected. Responses are mandatory.

Frequency: The frequency of reporting is on occasion.

Estimated Number and Description of Respondents: Approximately 130 Federal OCS oil, gas, and sulphur lessees.

Estimated Annual Reporting and Recordkeeping “Hour” Burden: 90,000 reporting hours for approximately 40,000 wells, based on:

(1) ¼ hour to locate and copy a summary of drilling operations (e.g. scout tickets) for each well.

(2) 2 hours to retrieve and analyze each well file and retrieve other missing data. There are no recordkeeping requirements.

Estimated Annual Reporting and Recordkeeping “Non-Hour Cost” Burden: We have identified no cost burdens for this collection.

Comments: The PRA (44 U.S.C. 3501, et seq.) provides that an agency may not conduct or sponsor, and a person is not required to respond to, a collection of information unless it displays a currently valid OMB control number. Section 3506(c)(2)(A) of the PRA requires each agency “* * * to provide notice * * * and otherwise consult with members of the public and affected agencies concerning each proposed collection of information . . .” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

We published a Federal Register notice with the required 60-day comment period soliciting comments on this ICR on March 3, 2000 (65 FR 11600). We received no comments in response to that notice. If you wish to comment in response to this notice, send your comments directly to the offices listed under the ADDRESSES section of this notice. The OMB has up to 60 days to approve or disapprove the information collection but may respond after 30 days. Therefore, to ensure maximum consideration, OMB should receive public comments by July 17, 2000.

MMS Information Collection Clearance Officer: Jo Ann Lauterbach, (202) 208-7744.

Dated: May 10, 2000.
E.P. Danenberger,
Chief, Engineering and Operations Division.

[FR Doc. 00-15107 Filed 6-14-00; 8:45 am]

BILLING CODE 4310-MR-U